DEPARTMENT OF VETERANS AFFAIRS

Advisory Committee on Homeless Veterans, Notice of Meeting

The Department of Veterans Affairs (VA) gives notice under the Federal Advisory Committee Act, 5 U.S.C., App. 2., that virtual meetings of the Advisory Committee on Homeless Veterans will be held on April 5-April 6, 2022. The meeting sessions will begin and end at 12:00 p.m. to 4:00 p.m. Eastern Standard Time (EST). The meeting sessions will be open to the public.

The purpose of the Committee is to provide the Secretary of Veterans Affairs with an ongoing assessment of the effectiveness of the policies, organizational structure and services of VA in assisting Veterans at risk of and experiencing homelessness. The Committee shall assemble, and review information related to the needs of homeless Veterans and provide advice on the most appropriate means of assisting this Veteran population. The Committee will make recommendations to the Secretary regarding such activities.

The agenda for all sessions will include briefings from VA and other Federal agency officials regarding services for homelessness among Veterans. The Committee will also discuss its annual report and recommendations to the Secretary of Veterans Affairs.

No time will be allocated at the meetings for receiving oral presentations from the public. Interested parties should provide written comments on issues affecting homeless Veterans for review by the Committee to Leisa Davis, Designated Federal Officer, Veterans Health Administration Homeless Programs Office (11HPO), U.S. Department of Veterans Affairs, 811 Vermont Avenue NW (11HPO), Washington, DC 20420, or via email at Leisa.Davis@va.gov and achv@va.gov.

Members of the public who wish to attend should contact Leisa Davis of the Veterans Health Administration, Homeless Programs Office, at Leisa.Davis@va.gov and achv@va.gov or 202-632-8588 no later than March 25, 2022, providing their name, professional affiliation, email address, and phone number. Attendees who require reasonable accommodations should also state so in their requests. Below is a meeting link and call-in number:

Join By Zoom Meeting: https://us06web.zoom.us/j/89820128103.

Meeting ID: 898 2012 8103

One Tap Mobile

+13017158592, 89820128103# US (Washington DC)

+13126266799, 89820128103# US (Chicago)

Dial By Your Location

+1 301 715 8592 US (Washington DC)

+1 312 626 6799 US (Chicago)

+1 646 558 8656 US (New York)

+1 253 215 8782 US (Tacoma)

+1 346 248 7799 US (Houston)

+1 720 707 2699 US (Denver)

Dated: February 10, 2022.
Jelessa M. Burney,
Federal Advisory Committee Management Officer.

[FR Doc. 2022-03231 Filed 2-14-22; 8:45 am]

BILLING CODE 8320-01-P